DEPARTMENT OF THE INTERIOR

Bureau of Land Management

[LLMTL-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held May 27 & 28, 2009.

The meetings will be in the Bureau of Land Management—Lewistown Field Office conference room (920 NE. Main St.) Lewistown, Montana.

The May 27 meeting will begin at 10 a.m. with a 30-minute public comment period and will adjourn at 5 p.m.

The May 28 meeting will begin at 8 a.m. with a 30-minute public comment period and will adjourn at 3 p.m.

SUPPLEMENTARY INFORMATION: This 15-member council advises the Secretary of the Interior on a variety of management issues associated with public land management in Montana. During these meetings the council will participate in/discuss/act upon:

Oil & gas issues in central Montana;

A report from the BLM Montana State Director;

A discussion of BLM's Bison Conservation Initiative;

Field manager updates;

A stewardship agreement between BLM and the Rocky Mountain Elk Foundation;

An educational partnership;

National Public Lands Day;

The American Recovery and Reinvestment Act in central Montana;

A monument newsletter;

Fee proposals from the U.S. Forest Service;

A hunter/angler stakeholder presentation;

A visionary conversation among RAC members; and

Administrative details (next meeting agenda, location, etc.).

All RAC meetings are open to the public. The public may present written comments to the RAC. Each formal RAC meeting will also have time allocated for hearing public comments. Depending on the number of persons wishing to comment and time available, the time for individual oral comments may be limited.

FOR FURTHER INFORMATION CONTACT: Gary L. “Stan” Benes, Lewistown Field Manager, Lewistown Field Office, P.O. Box 1160, Lewistown, Montana 59457, 406/538-1900.

Dated: May 5, 2009.
Gary L. “Stan” Benes,
Lewistown Field Manager.

[FR Doc. E9-10940 Filed 5-8-09; 8:45 am]

BILLING CODE 4310-$$-P